DEPARTMENT OF VETERANS AFFAIRS

Privacy Act of 1974; System of Records

AGENCY: Department of Veterans Affairs (VA).

ACTION: Notice of Amendment to System of Records.

SUMMARY: As required by the Privacy Act of 1974, 5 U.S.C. 552a(e), notice is hereby given that the Department of Veterans Affairs (VA) is amending the system of records currently entitled “Blood Donor Information—VA” (04VA115) as set forth in the Federal Register 73 FR 74574. VA is amending the system by revising the System Number, System Location, Categories of Individuals Covered by the System, Category of Records in the System, Authority for Maintenance of the System, Storage, Retrievability, Retention and Disposal, and System Manager and Address. VA is republishing the system notice in its entirety.

DATES: Comments on this new system of records must be received no later than October 30, 2015. If no public comment is received during the period allowed for comment or unless otherwise published in the Federal Register by the VA, the new system will become effective October 30, 2015.

ADDRESSES: Written comments concerning the proposed amended system of records may be submitted by: Mail or hand-delivery to Director, Regulations Management (02REG), Department of Veterans Affairs, 810 Vermont Avenue NW., Room 1068, Washington, DC 20420; fax to (202) 273-9026; or email to http://www.Regulations.gov. All comments received will be available for public inspection in the Office of Regulation Policy and Management, Room 1063B, between the hours of 8:00 a.m. and 4:30 p.m., Monday through Friday (except holidays). Please call (202) 461-4902 (this is not a toll-free number) for an appointment.

FOR FURTHER INFORMATION CONTACT: Veterans Health Administration (VHA) Privacy Act Officer, Department of Veterans Affairs, 810 Vermont Avenue NW., Washington, DC 20420; telephone (704) 245-2492.

SUPPLEMENTARY INFORMATION: The system number is changed from 04VA115 to 04VA10P4D to reflect the current organizational alignment.

The System Location has been amended to add that records are located at each of the health care facilities that currently or previously collected donor blood.

Categories of Individuals Covered by the System has been amended to remove government or private agencies.

The Category of Records in the System is being amended to add other unique identifiers. The sentence VA maintains a record of the individual to whom the blood or blood component was transfused and the medical facility where the product was transfused and/or stored is being removed. Final disposition is being defined as transferred, transfused, or discarded.

The Authority for Maintenance of the System is being amended to replace Title 42, Code of Federal Regulations, section 493.1107 with Title 42, Code of Federal Regulations, section 493.1105.

The Storage section is being amended to add electronic media. This section is also being amended to remove magnetic tape and disk. The Retrievability section is being amended to add other unique identifiers.

The Retention and Disposal section is being amended to remove that paper records and information are maintained and disposed of in accordance with records disposition authority approved by the Archivist of the United States. The new language will state that these records are disposed of in accordance with Section VIII-Laboratory Services of the VHA Records Control Schedule 10-1, Item number 113-31/36.

The System Manager and Address is being amended to remove Strategic Healthcare Group (SHG) (115), and add (10P4D).

The Report of Intent to Amend a System of Records Notice and an advance copy of the system notice have been sent to the appropriate Congressional committees and to the Director of the Office of Management and Budget (OMB) as required by 5 U.S.C. 552a(r) (Privacy Act) and guidelines issued by OMB (65 FR 77677), December 12, 2000.

Signing Authority

The Secretary of Veterans Affairs, or designee, approved this document and authorized the undersigned to sign and submit the document to the Office of the Federal Register for publication electronically as an official document of the Department of Veterans Affairs. Robert L. Nabors II, Chief of Staff, approved this document on September 18, 2015, for publication.

Dated: September 21, 2015.
Kathleen M. Manwell,
Program Analyst, Office of Privacy and Records Management, Department of Veterans Affairs.

04VA10P4D

SYSTEM NAME:

Blood Donor Information—VA

SYSTEM LOCATION:

Blood Donor records are maintained at each of the Department of Veterans Affairs (VA) health care facilities that currently or previously collected donor blood. Addresses are listed in VA Appendix I of the biennial publication of Privacy Act Issuances.

CATEGORIES OF INDIVIDUALS COVERED BY THE SYSTEM:

Individuals who donate or have donated blood at a Veterans Health Administration (VHA) health care facility or blood bank for patient care under routine or emergency conditions.

CATEGORIES OF RECORDS IN THE SYSTEM:

Blood donor records contain sufficient information (i.e., donor name, social security number, or other unique identifier, date of donation, and type of donation, type of components produced by the donation, mandated tests results, and disposition of the blood or blood component) to provide a mechanism to track a donated blood product from the time of donor registration through the final disposition of each component prepared from that donation. For this system of record, final disposition is defined as transferred, transfused, or discarded.

AUTHORITY FOR MAINTENANCE OF THE SYSTEM:

1. Title 38, United States Code, sections 501(a) and 501(b).

2. Title 21, Code of Federal Regulations, parts 200-299 and parts 600-680.

3. Title 42, Code of Federal Regulations, section 493.1105.

PURPOSE(S):

The information and records are used to track the donor medical history, donation interval(s), results of donor testing, report positive or abnormal test results, and blood and/or blood components produced from the donation.

ROUTINE USES OF RECORDS MAINTAINED IN THE SYSTEM, INCLUDING CATEGORIES OF USERS AND THE PURPOSES OF SUCH USES:

VA may disclose protected health information pursuant to the following routine uses where required by law, or required or permitted by 45 CFR parts 160 and 164.

1. Disclosure may be made to answer requests for information from Federal, State, local, and tribal medical facilities regarding the source from which blood was received. Such requests may be initiated by a qualified medical practitioner in the event that a donor's or patient's medical condition warrants it.

2. Disclosure may be made of blood availability, location, quantity on hand, and blood type for use by the area donor collection coordinators to answer and fill requests from health care facilities in need of type-specific blood.

3. VA may disclose on its own initiative any information in this system, except the names and home addresses of Veterans and their dependents, which is relevant to a suspected or reasonably imminent violation of law, whether civil, criminal or regulatory in nature and whether arising by general or program statute or by regulation, rule or order issued pursuant thereto, to a Federal, State, local, tribal, or foreign agency charged with the responsibility of investigating or prosecuting such violation, or charged with enforcing or implementing the statute, regulation, rule or order. On its own initiative, VA may also disclose the names and addresses of Veterans and their dependents to a Federal agency charged with the responsibility of investigating or prosecuting civil, criminal or regulatory violations of law, or charged with enforcing or implementing the statute, regulation, rule or order issued pursuant thereto.

4. Disclosure from a system of records maintained by this component may be made to a Congressional office from the record of an individual in response to an inquiry from the Congressional office made at the request of that individual.

5. A record from a system of records maintained by this component may be disclosed as a routine use to the General Services Administration for the purpose of records management inspections conducted under authority of Title 44 United States Code.

6. A record from a system of records maintained by this component may be disclosed as a routine use to the National Archives and Records Administration for the purpose of records management inspections conducted under authority of title 44 United States Code.

7. Disclosure of relevant information may be made to individuals, organizations, private or public agencies, etc., with whom VA has a contract or agreement to perform such services as VA may deem practicable for the purposes of laws administered by VA, in order for the contractor or subcontractor to perform the services of the contract or agreement.

8. VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to the DoJ is a use of the information contained in the records that is compatible with the purpose for which VA collected the records. VA, on its own initiative, may disclose records in this system of records in legal proceedings before a court or administrative body after determining that the disclosure of the records to the court or administrative body is a use of the information contained in the records that is compatible with the purpose for which VA collected the records.

9. Disclosure to other Federal agencies may be made to assist such agencies in preventing and detecting possible fraud or abuse by individuals in their operations and programs.

10. VA may, on its own initiative, disclose any information or records to appropriate agencies, entities, and persons when (1) VA suspects or has confirmed that the integrity or confidentiality of information in the system of records has been compromised; (2) the Department has determined that as a result of the suspected or confirmed compromise, there is a risk of embarrassment or harm to the reputations of the record subjects, harm to economic or property interests, identity theft or fraud, or harm to the security, confidentiality, or integrity of this system or other systems or programs (whether maintained by the Department or another agency or disclosure is to agencies, entities, or persons whom VA determines are reasonably necessary to assist or carry out the Department's efforts to respond to the suspected or confirmed compromise and prevent, minimize, or remedy such harm. This routine use permits disclosures by the Department to respond to a suspected or confirmed data breach, including the conduct of any data breach analysis, as the terms are defined in 38 U.S.C. 5727 or provision of credit protection services as provided in 38 U.S.C. 5724.

POLICIES AND PRACTICES FOR STORING, RETRIEVING, ACCESSING, RETAINING, AND DISPOSING OF RECORDS IN THE SYSTEM:

STORAGE:

Paper documents, electronic media.

RETRIEVABILITY:

1. All VA blood donor manual records are indexed by name and social security number or other unique identifier of donor, cross-indexed by blood type.

2. Automated records are indexed by name, unique identifier, social security number, blood type, antibodies and date of last donation.

SAFEGUARDS:

1. Access to VA working space and medical record storage areas is restricted to VA employees on a “need to know” basis. Generally, VA file areas are locked after normal duty hours and are protected from outside access by the Federal Protective Service. Employees file records and file records of public figures or otherwise sensitive medical record files are stored in separate locked files. Strict control measures are enforced to ensure that disclosure is limited to a “need to know” basis.

2. Strict control measures are enforced to ensure that access to and disclosure from all records including electronic files are limited to VA employees whose official duties warrant access to those files. The system recognizes authorized employees by a series of individually unique passwords/codes, and the employees are limited to only that information in the file, which is needed in the performance of their official duties.

RETENTION AND DISPOSAL:

The records are disposed of in accordance with Section VIII-Laboratory Services of the VHA Records Control Schedule 10-1, Item number 113-31/36, National Archives and Records Administration under the National Archives Job No. N1-15-02-04.

SYSTEM MANAGER(S) AND ADDRESS:

Chief Consultant, Diagnostic Services, (10P4D), Department of Veterans Affairs, 810 Vermont Avenue NW., Washington, DC 20420.

NOTIFICATION PROCEDURE:

Individuals seeking information concerning the existence and/or content of a blood donor information record pertaining to themselves must submit a written request or apply in person to the VA health care facility where the donation occurred. All inquiries must reasonably identify the portion of the blood donor information record desired and the approximate date(s) that service was provided.

Additionally, inquiries should include the individual's full name, social security number, and home address at the time of medical service, if known.

RECORD ACCESS PROCEDURE:

Blood donors, patients of VA medical care facilities or duly authorized representatives seeking information regarding access to or who are contesting VA health facility records may write, call or visit the VHA facility where medical service was provided or volunteered.

CONTESTING RECORD PROCEDURES: (See Record Access Procedures above.)

RECORD SOURCE CATEGORIES:

1. Blood donor.

2. Private hospitals and local blood banks.

3. Private physicians.

4. Non-VA Laboratories.

[FR Doc. 2015-24730 Filed 9-29-15; 8:45 am]

BILLING CODE P